DEPARTMENT OF THE TREASURY

Internal Revenue Service

26 CFR Part 301

[REG-157271-05]

RIN 1545-BF21

Procedures for Administrative Review of a Determination That an Authorized Recipient Has Failed To Safeguard Tax Returns or Return Information: Correction

AGENCY: Internal Revenue Service (IRS), Treasury.

ACTION: Correction to notice of proposed rulemaking by cross-reference to temporary regulations.

SUMMARY: This document corrects a notice of proposed rulemaking by cross-reference to temporary regulations that was published in the Federal Register on Friday, February 24, 2006 (71 FR 9487) regarding administrative review procedures for certain government agencies and other authorized recipients of tax returns or return information (authorized recipients) whose receipt of returns and return information may be suspended or terminated because they do not maintain proper safeguards.

FOR FURTHER INFORMATION CONTACT: Melinda K. Fisher, (202) 622-4580 (not a toll-free number).

SUPPLEMENTARY INFORMATION:

Background

The notice of proposed rulemaking by cross-reference to temporary regulations (REG-157271-05), that is the subject of this correction, is under section 6103 of the Internal Revenue Code.

Need for Correction

As published, the notice of proposed rulemaking by cross-reference to temporary regulations (REG-157271-05) contains an error that may prove to be misleading and is in need of clarification.

Correction of Publication

Accordingly, the notice of proposed rulemaking by cross-reference to temporary regulations (REG-157271-05) that was the subject of FR Doc. 06-1714, is corrected as follows:

On page 9487, column 3, in the preamble, under the caption ADDRESSES, last line, the language “148864-03).” is corrected to read, “157271-05).”.

Guy R. Traynor,
Chief, Publications and Regulations Branch, Legal Processing Division, Associate Chief Counsel (Procedure and Administration).

[FR Doc. 06-2336 Filed 3-9-06; 8:45 am]

BILLING CODE 4830-01-P